DEPARTMENT OF COMMERCE

National Oceanic and Atmospheric Administration

[I.D. 081105B]

New England Fishery Management Council; Public Meetings

AGENCY: National Marine Fisheries Service (NMFS), National Oceanic and Atmospheric Administration (NOAA), Commerce.

ACTION: Notice; committee meetings.

SUMMARY: The New England Fishery Management Council's (Council) Groundfish Advisory Panel and Oversight Committee will hold meetings to consider actions affecting New England fisheries in the exclusive economic zone (EEZ).

DATES: The meetings will be held in August 2005. For specific dates and times, see SUPPLEMENTARY INFORMATION.

ADDRESSES: The meetings will be held in Peabody MA. For specific locations, see SUPPLEMENTARY INFORMATION.

Council address: New England Fishery Management Council, 50 Water Street, Mill #2, Newburyport, MA 01950.

FOR FURTHER INFORMATION CONTACT: Paul J. Howard, Director, New England Fishery Management Council; telephone: (978)465-0492.

SUPPLEMENTARY INFORMATION: The committee's schedule and agenda for the Council meetings are as follows:

Locations, Schedules, and Agendas

1. Monday, August 29, 2005 beginning at 9:30 a.m.; Holiday Inn, One Newbury Street, Peabody, MA 01960

The Groundfish Advisory Panel will meet to continue develop recommendations for Framework Adjustment 42 (FW 42) to the Northeast Multispecies Fishery Management Plan (FMP). The Panel will receive a preliminary report on groundfish assessments and will discuss what changes to management measures may be necessary as a result of that report. These changes could include modifications to the Amendment 13 default measures, Special Access Programs(SAPs), incidental catch Total Allowable Catch (TACs) that apply to the use of Category B days-at-sea (DAS), or other measures. Draft measures text for the framework will be reviewed and recommendations developed for adjustments as necessary. The Panel may also discuss options for a formal rebuilding plan for Georges Bank yellowtail flounder and may recommend measures necessary to rebuild that stock. The Panel will discuss extending and/or modifying, as necessary, the Category B (regular) DAS Pilot Program. The Advisory Panel report will be provided to the Groundfish Committee to assist its deliberations. Other business may also be discussed.

2. Tuesday, August 30, 2005 beginning at 9:30 a.m.; Holiday Inn, One Newbury Street, Peabody, MA 01960

The Groundfish Oversight Committee will meet to continue development of FW 42 to the Northeast Multispecies FMP. They will receive a preliminary report on groundfish assessments and will discuss what changes to management measures may be necessary as a result of that report. These changes could include modifications to the Amendment 13 default measures, SAPs, incidental catch TACs that apply to the use of Category B DAS, or other measures. The Committee will also develop options for a formal rebuilding plan for Georges Bank yellowtail flounder and will identify measures necessary to rebuild that stock. They will consider extending and/or modifying, as necessary, the Category B (regular) DAS Pilot Program. Draft measures text for the framework will be reviewed and adjusted as necessary. The Committee may also discuss a standardized bycatch reporting methodology. An Advisory Panel report will be provided to assist the Committee's deliberations. Other business may also be discussed. Committee recommendations will be forwarded to the Council at a future date.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Dated: August 12, 2005.
Anne Lange,
Acting Director, Office of Sustainable Fisheries, National Marine Fisheries Service.

[FR Doc. 05-16320 Filed 8-16-05; 8:45 am]

BILLING CODE 3510-22-S